DEPARTMENT OF TRANSPORTATION

Federal Aviation Administration

Notice of Passenger Facility Charge (PFC) Approvals and Disapprovals

AGENCY: Federal Aviation Administration (FAA), DOT.

ACTION: Monthly notice of PFC approvals and disapprovals. In March 2003, there were five applications approved. This notice also includes information on one application, approved in February 2003, inadvertently left off the February 2003 notice. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Texarkana Airport Authority, Texarkana, Arkansas.

Application Number: 03-05-C-00-TXK.

Application Type: Impose and use a PFC.

PFC Level: $4.50.

Total PFC Revenue Approved in this Decision: $98,250.

Earliest Charge Effective Date: October 1, 2005.

Estimated Charge Expiration Date: August 1, 2006.

Class of Air Carriers Not Required to Collect PFC's: None.

Brief Description of Project Approved for Collection and Use: Rehabilitate runway 13/31 and taxiway C.

Decision Date: February 3, 2003.

For Further Information Contact: G. Thomas Wade, Southwest Region Airports Division, (817) 222-5613.

Public Agency: City of Tyler, Texas.

Application Number: 03-04-C-00-TYR.

Application Type: Impose and use a PFC.

PFC Level: $4.50.

Total PFC Revenue Approved in this Decision: $2,140,662.

Earliest Charge Effective Date: April 1, 2008.

Estimated Charge Expiration Date: February 1, 2017.

Class of Air Carriers Not Required to Collect PFC's: None.

Brief Description of Project Approved for Collection and Use:

Acquire and install one passenger loading bridge.

Construct terminal apron and install security fencing.

Terminal site work and utilities.

Construct terminal building.

Seal coat runway 4/22.

PFC application and administrative fees.

Decision Date: March 4, 2003.

For Further Information Contact: G. Thomas Wade, Southwest Region Airports Division, (817) 222-5613.

Public Agency: Charlottesville-Albemarle Airport Authority, Charlottesville, Virginia.

Application Number: 03-15-C-00-CHO.

Application Type: Impose and use a PFC.

PFC Level: $3.00.

Total PFC Revenue Approved in this Decision: $850,000.

Earliest Charge Effective Date: July 1, 2006.

Estimated Charge Expiration Date: January 1, 2008.

Class of Air Carriers Not Required to Collect PFC's: Air taxi/commercial operators filing FAA Form 1800-31.

Determination: Approved. Based on information contained in the public agency's application, the FAA has determined that the approved class accounts for less than 1 percent of the total annual enplanements at Charlottesville-Albemarle Airport.

Brief Description of Project Approved for Collection and Use:

Terminal building modifications.

Upgrade multi-user flight information display system.

Extend runway 3 safety area, phase IV.

PFC project administration fees.

Decision Date: March 5, 2003.

For Further Information Contact: Arthur Winder, Washington Airports District Office, (703) 661-1363.

Public Agency: Town of Islip, New York.

Application Number: 03-05-C-00-ISP.

Application Type: Impose and use a PFC.

PFC Level: $3.00.

Total PFC Revenue Approved in this Decision: $493,001.

Earliest Charge Effective Date: August 1, 2005.

Estimated Charge Expiration Date: October 1, 2005.

Class of Air Carriers Not Required to Collect PFC's: Non-scheduled/on demand air carriers filing FAA Form 1800-31.

Determination: Approved. Based on information contained in the public agency's application, the FAA has determined that the approved class accounts for less than 1 percent of the total annual enplanements at Long Island MacArthur Airport.

Brief Description of Project Approved for Collection and Use:

Rehabilitation of runway 6/24.

Wildlife hazard management assessment and wildlife hazard management plan.

Acquire two snow removal brooms.

Purchase one passenger boarding assistance device.

Airport security enhancement items.

Decision Date: March 7, 2003.

For Further Information Contact: Dan Vornea, New York Airports District Office, (516) 227-3812.

Public Agency: Jackson Municipal Airport Authority, Jackson, Mississippi.

Application Number: 03-04-C-00-JAN.

Application Type: Impose and use a PFC.

PFC Level: $3.00.

Total PFC Revenue Approved in this Decision: $5,101,722.

Earliest Charge Effective Date: February 1, 2007.

Estimated Charge Expiration Date: June 1, 2010.

Class of Air Carriers not Required to Collect PFC's: Air taxi/commercial operators.

Determination: Approved. Based on information contained in the public agency's application, the FAA has determined that the approved class accounts for less than 1 percent of the total annual enplanements at Jackson Municipal Airport.

Brief Description of Projects Approved for Collection and Use:

Runway sweeper.

Tricherator.

Local share and engineering west parallel lights.

Local share and engineering west taxiway overlay.

Local share air cargo road.

Local share air cargo apron/taxiway.

Meets and bounds survey.

Rehabilitate International Drive.

Brief Description of Projects Disapproved for Collection and Use: Hawkins Field environment assessment.

Determination: The proposed project was for a study of pre- and post-World War II underground storage tank locations. The public agency offered no evidence that the responsible federal agency, the Department of Defense, had been contacted to fund at least a portion of the cleanup. Therefore, the FAA determined that the project was not adequately justified.

Surfact Transportation System.

Determination: The public agency provided no evidence that the proposed project was for exclusive airport use. Therefore, it is not PFC eligible.

Decision Date: March 24, 2003.

For Further Information Contact: David Shumate, Jackson Airports District Office, (601) 664-9882.

Public Agency: City of Farmington, New Mexico.

Application Number: 03-01-C-00-FMN.

Application Type: Impose and use a PFC.

PFC Level: $3.00.

Total PFC Revenue Approved in this Decision: $661,102.

Earliest Charge Effective Date: June 1, 2003.

Estimated Charge Expiration Date: May 1, 2011.

Class of Air Carriers not Required to Collect PFC's: Part 135 air taxi/commercial operators filing FAA Form 1800-31.

Determination: Approved. Based on information contained in the public agency's application, the FAA has determined that the approved class accounts for less than 1 percent of the total annual enplanements at Four Corners Regional Airport.

Brief Description of Projects Approved for Collection and Use:

Runway improvements

Taxiway improvements.

Apron improvements.

Drainage improvements.

Airfield improvements.

Airfield electrical improvements.

Security improvements.

Terminal improvements.

Non-revenue parking improvements.

Acquire safety equipment.

Conduct planning studies.

Service road improvements.

PFC application and administrative fees.

Decision Date: March 28, 2003.

For Further Information Contact: G. Thomas Wade, Southwest Region Airports Division, (817) 222-5613.

Amendments to PFC Approvals
Amendment No. City, State | Amendment approved date | Original approved net PFC revenue | Amended approved net PFC revenue | Original estimated charge exp. date | Amended estimated charge exp. date
97-03-C-02-GEG, Spokane, WA* | 01/24/03 | $32,083,332 | $35,859,822 | 06/01/05 | 05/01/05
01-04-C-01-HDN, Hayden, CO | 02/19/03 | 150,833 | 163,842 | 08/01/05 | 08/01/05
96-02-C-01-PBI, West Palm Beach, FL | 03/12/03 | 21,997,000 | 21,863,704 | 04/01/02 | 04/01/02
00-02-C-01-CEC, Crescent City, CA* | 03/14/03 | 447,048 | 447,048 | 07/01/13 | 03/01/11
00-03-C-02-BHM, Birmingham, AL | 03/20/03 | 13,500,000 | 15,100,000 | 06/01/03 | 11/01/03
93-01-C-02-OTH, North Bend, OR | 03/25/03 | 162,044 | 139,785 | 01/01/98 | 01/01/98
96-02-C-OTH, North Bend, OR | 03/25/03 | 68,731 | 95,984 | 04/01/99 | 04/01/99
Note: The amendments denoted by an asterisk (*) include a change to the PFC level charged from $3.00 per enplaned passenger to $4.50 per enplaned passenger. For Spokane, WA, this change is effective on April 1, 2003. For Crescent City, CA, this change is effective on June 1, 2003.

Issued in Washington, DC, on April 15, 2003.
Barry Molar,
Manager, Airports Financial Assistance Division.

[FR Doc. 03-9891 Filed 4-21-03; 8:45 am]

BILLING CODE 4910-13-M